DEPARTMENT OF HEALTH AND HUMAN SERVICES

Centers for Disease Control and Prevention

Guide to Community Preventive Services Task Force

Name: Task Force on Community Preventive Services.

Times and Dates: 8 a.m.-7 p.m., February 15, 2006; 9 a.m.-1:30 p.m., February 16, 2006.

Place: Centers for Disease Control and Prevention (CDC), Roybal Campus, Building 19, Room 232 (Auditorium B), 1600 Clifton Road, Atlanta, Georgia 30333, telephone (404) 639-3311.

Status: Open to the public, limited only by the space available.

Purpose: The mission of the Task Force is to develop and publish the Guide to Community Preventive Services (GCPS), which is based on the best available scientific evidence and current expertise regarding essential public health and what works in the delivery of those services.

Matters To Be Discussed: (1) Briefings on administrative information; (2) Violence prevention; (3) Enhanced enforcement of laws prohibiting sale of alcohol to minors; (4) Worksite health promotion and the assessment of health risks with feedback; (5) Update on worksite setting and obesity; (6) Adolescent health; (7) Provider reminders and provider incentives for cancer screening; and (8) Dissemination activities and projects in which the Community Guide is utilized.

Agenda items are subject to change as priorities dictate.

Persons interested in reserving a space for this meeting should call (770) 488-8376 by close of business on February 10, 2006.

Contact Person or Additional Information: Peter Briss, M.D., Chief, Community Guide Branch, Coordinating Center for Health Information and Service, National Center for Health Marketing, Division of Scientific Communications, 4770 Buford Highway, M/S K-95, Atlanta, Georgia 30333, telephone (770) 488-8338.

The Director, Management Analysis and Services Office has been delegated the authority to sign Federal Register notices pertaining to announcements of meetings and other committee management activities for both CDC and the Agency for Toxic Substances and Disease Registry.

Dated: January 30, 2006.
Diane Allen,
Acting Director, Management Analysis and Services Office, Centers for Disease Control and Prevention.

[FR Doc. E6-1556 Filed 2-3-06; 8:45 am]

BILLING CODE 4163-18-P